DEPARTMENT OF COMMERCE

International Trade Administration

[A-201-853]

Standard Steel Welded Wire Mesh From Mexico: Antidumping Duty Order

AGENCY: Enforcement and Compliance, International Trade Administration, Department of Commerce.

SUMMARY: Based on the affirmative final determinations by the Department of Commerce (Commerce) and the International Trade Commission (ITC), Commerce is issuing an antidumping duty (AD) order on standard steel welded wire mesh (wire mesh) from Mexico.

DATES: Applicable August 9, 2021.

FOR FURTHER INFORMATION CONTACT: Melissa Kinter or Alice Maldonado, AD/CVD Operations, Office II, Enforcement and Compliance, International Trade Administration, U.S. Department of Commerce, 1401 Constitution Avenue NW, Washington, DC 20230; telephone: (202) 482-1413 or (202) 482-4682, respectively.

SUPPLEMENTARY INFORMATION:

Background

In accordance with sections 735(d) and 777(i)(1) of the Tariff Act of 1930, as amended (the Act), and 19 CFR 351.210(c), on June 23, 2021, Commerce published its affirmative final determination in the less-than-fair-value (LTFV) investigation of wire mesh from Mexico.¹ On July 30, 2021, the ITC notified Commerce of its final affirmative determination that an industry in the United States is materially injured within the meaning of section 735(b)(1)(A)(i) of the Act, by reason of the LTFV imports of wire mesh from Mexico.²

¹ See Standard Steel Welded Wire Mesh from Mexico: Final Determination of Sales at Less-Than-Fair-Value Investigation, 86 FR 32891 (June 23, 2021).

² See ITC's Letter, “Notification of ITC Final Determinations,” dated July 30, 2021.

Scope of the Order

The merchandise covered by this order is wire mesh from Mexico. For a complete description of the scope of the order, see the appendix to this notice.

Antidumping Duty Order

On July 30, 2021, in accordance with sections 735(b)(1)(A)(i) and 735(d) of the Act, the ITC notified Commerce of its final determination that an industry in the United States is materially injured by reason of imports of wire mesh from Mexico.³ Therefore, Commerce is issuing this AD order in accordance with sections 735(c)(2) and 736 of the Act. Because the ITC determined that imports of wire mesh from Mexico are materially injuring a U.S. industry, unliquidated entries of such merchandise from Mexico, which are entered or withdrawn from warehouse for consumption, are subject to the assessment of antidumping duties.

³ Id.

As a result of the ITC's final affirmative determination, in accordance with section 736(a)(1) of the Act, Commerce will direct U.S. Customs and Border Protection (CBP) to assess, upon further instruction by Commerce, antidumping duties equal to the amount by which the normal value of the merchandise exceeds the export price or constructed export price of the merchandise for all relevant entries of wire mesh from Mexico. For entries of wire mesh from Mexico, the cash deposits for estimated antidumping duties have been adjusted for export subsidies found in the final determination of the companion countervailing duty (CVD) investigation.⁴ Antidumping duties will be assessed on unliquidated entries of wire mesh from Mexico entered, or withdrawn from warehouse, for consumption on or after February 1, 2021, the date of publication of the Preliminary Determination,⁵ but will not include entries occurring after the expiration of the provisional measures period and before publication in the Federal Register of the ITC's injury determination, as further described below.

⁴ See Standard Steel Welded Wire Mesh from Mexico: Final Affirmative Countervailing Duty Determination, 86 FR 10034 (February 18, 2021) (CVD Final Determination).

⁵ See Standard Steel Welded Wire Mesh from Mexico: Preliminary Affirmative Determination of Sales at Less Than Fair Value, Postponement of Final Determination, and, Extension of Provisional Measures, 86 FR 7710 (February 1, 2021) (Preliminary Determination).

Continuation of Suspension of Liquidation

In accordance with section 736 of the Act, Commerce will instruct CBP to continue to suspend liquidation on all relevant entries of wire mesh from Mexico as described in the appendix to this notice which are entered, or withdrawn from warehouse, for consumption on or after the date of publication of the ITC's notice of final determination in the Federal Register. These instructions suspending liquidation will remain in effect until further notice.

We will also instruct CBP to require cash deposits equal to the amount as indicated below. Accordingly, effective on the date of publication in the Federal Register of the ITC's final affirmative injury determination, CBP will require, at the same time as importers would normally deposit estimated duties on this subject merchandise, a cash deposit equal to the cash deposit for estimated antidumping duties based on the ad valorem cash deposit rates listed below.⁶ The relevant all-others rate applies to all producers or exporters not specifically listed, as appropriate.

⁶ See section 736(a)(3) of the Act.

Estimated Weighted-Average Dumping Margins

The estimated weighted-average dumping margins for the AD order are as follows:

Exporter/producer | Estimated weighted-average dumping margin (percent) | Cash deposit rate (adjusted for subsidy offset(s)) (percent) ⁷
Aceromex, S.A. de C.V | 23.04 | 22.01
Deacero S.A.P.I. de C.V | 110.42 | 109.39
All Others | 23.04 | 22.01

Provisional Measures

⁷ In the companion CVD investigation, Commerce calculated a 1.03 percent export subsidy rate for Aceromex, S.A. de C.V. (Aceromex) and for all other producers and exporters under the program “Eighth Rule Permit Program.” See CVD Final Determination, and accompanying Issues and Decision Memorandum at 10. Because we determined the LTFV all-others rate based on Aceromex's estimated weighted-average dumping margin, the export subsidy offset for all other producers and exporters is the lesser of the export subsidy rate for Aceromex and the export subsidy rate for all other producers and exporters in the CVD preliminary determination (i.e., 1.03 percent). The cash deposit rate for Deacero S.A.P.I. de C.V. is equal to the petition rate (110.42 percent) adjusted for the lowest rate of export subsidies found for any company in the most recently-completed segment in the companion CVD proceeding (i.e., 1.03 percent related to the Eighth Rule Permit Program).

Section 733(d) of the Act states that suspension of liquidation pursuant to an affirmative preliminary determination may not remain in effect for more than four months, except that Commerce may extend the four-month period to no more than six months at the request of exporters representing a significant proportion of exports of the subject merchandise. At the request of exporters that account for a significant proportion of exports of wire mesh from Mexico, we extended the four-month period to six months in the Preliminary Determination published on February 1, 2021.

The extended provisional measures period, beginning on the date of publication of the Preliminary Determination, ended on July 30, 2021. Therefore, in accordance with section 733(d) of the Act and our practice, we will instruct CBP to terminate the suspension of liquidation and to liquidate, without regard to antidumping duties, unliquidated entries of wire mesh from Mexico entered, or withdrawn from warehouse, for consumption after July 30, 2021, the final day provisional measures were in effect, until and through the day preceding the date of publication of the ITC's final injury determination in the Federal Register. Suspension of liquidation will resume on the date of publication of the ITC's final determination in the Federal Register.

Notification to Interested Parties

This notice constitutes the AD order with respect to wire mesh from Mexico pursuant to section 736(a) of the Act. Interested parties can find a list of AD orders currently in effect at http://enforcement.trade.gov/stats/iastats1.html.

This order is issued and published in accordance with section 736(a) of the Act and 19 CFR 351.211(b).

Dated: August 3, 2021.
Christian Marsh,
Acting Assistant Secretary for Enforcement and Compliance.

Appendix—Scope of the Investigation

The merchandise covered by this investigation is uncoated standard welded steel reinforcement wire mesh (wire mesh) produced from smooth or deformed wire. Subject wire mesh is produced in square and rectangular grids of uniformly spaced steel wires that are welded at all intersections. Sizes are specified by combining the spacing of the wires in inches or millimeters and the wire cross-sectional area in hundredths of square inch or millimeters squared. Subject wire mesh may be packaged and sold in rolls or in sheets.

Subject wire mesh is currently produced to ASTM specification A1064/A1064M, which covers carbon-steel wire and welded wire reinforcement, smooth and deformed, for concrete in the following seven styles:

1. 6X6 W1.4/W1.4 or D1.4/D1.4

2. 6X6 W2.1/W2.1 or D2.1/D2.1

3. 6X6 W2.9/W2.9 or D2.9/D2.9

4. 6X6 W4/W4 or D4/D4

5. 6X12 W4/W4 or D4/D4

6. 4X4 W2.9/W2.9 or D2.9/D2.9

7. 4X4 W4/W4 or D4/D4

The first number in the style denotes the nominal spacing between the longitudinal wires and the second number denotes the nominal spacing between the transverse wires. In the first style listed above, for example, “6X6” denotes a grid size of six inches by six inches. “W” denotes the use of smooth wire, and “D” denotes the use of deformed wire in making the mesh. The number following the W or D denotes the nominal cross-sectional area of the transverse and longitudinal wires in hundredths of a square inch (i.e., W1.4 or D1.4 is .014 square inches).

Smooth wire is wire that has a uniform cross-sectional diameter throughout the length of the wire.

Deformed wire is wire with indentations or raised transverse ribs, which results in wire that does not have a uniform cross-sectional diameter throughout the length of the wire.

Rolls of subject wire mesh are produced in the following styles and nominal width and length combinations:

Style: 6X6 W1.4/W1.4 or D1.4/D1.4 (i.e., 10 gauge)

Roll Sizes:

5′ X 50′

5′ X 150′

6′ X 150′

5′ X 200′

7′ X 200′

7.5′ X 200′

Style: 6X6 W2.1/W2.1 or D2.1/D2.1 (i.e., 8 gauge)

Roll Sizes:

5′ X 150′

Style: 6X6 W2.9/W2.9 or D2.9/D2.9 (i.e., 6 gauge)

Roll Sizes:

5′ X 150′

7′ X 200′

All rolled wire mesh is included in scope regardless of length.

Sheets of subject wire mesh are produced in the following styles and nominal width and length combinations:

Style: 6X6 W1.4/W1.4 or D1.4/D1.4 (i.e., 10 gauge)

Sheet Size:

3′6″ X 7′

4′ X 7′

4′ X 7′6″

5′ X 10′

7′ X 20′

7′6″ X 20′

8′ X 12′6″

8′ X 15′

8′ X 20′

Style: 6X6 W2.1/W2.1 or D2.1/D2.1 (i.e., 8 gauge)

Sheet Size:

5′ X 10′

7′ X 20′

7′6″ X 20′

8′ X 12′6″

8′ X 15′

8′ X 20′

Style: 6X6 W2.9/W2.9 or D2.9/D2.9 (i.e., 6 gauge)

Sheet Size:

3′6″ X 20′

5′ X 10′

7′ X 20′

7′6″ X 20′

8′ X 12′6″

8′ X 15′

8′ X 20′

Style: 6X12 W4/W4 or D4/D4 (i.e., 4 gauge)

Sheet Size:

8′ X 20′

Style: 4X4 W2.9/W2.9 or D2.9/D2.9 (i.e., 6 gauge)

Sheet Size:

5′ X 10′

7′ X 20′

7′6″ X 20′

8′ X 12′6″

8′ X 12′8″

8′ X 15′

8′ X 20′

Style: 4X4 W4/W4 or D4/D4 (i.e., 4 gauge)

Sheet Size:

5′ X 10′

8′ X 12′6″

8′ X 12′8″

8′ X 15′

8′ X 20′

Any product imported, sold, or invoiced in one of these size combinations is within the scope.

ASTM specification A1064/A1064M provides for permissible variations in wire gauges, the spacing between transverse and longitudinal wires, and the length and width combinations. To the extent a roll or sheet of welded wire mesh falls within these permissible variations, it is within this scope.

ASTM specification A1064/A1064M also defines permissible oversteeling, which is the use of a heavier gauge wire with a larger cross-sectional area than nominally specified. It also permits a wire diameter tolerance of ± 0.003 inches for products up to W5/D5 and ± 0.004 for sizes over W5/D5. A producer may oversteel by increasing smooth or deformed wire diameter up to two whole number size increments on Table 1 of A1064. Subject wire mesh has the following actual wire diameter ranges, which account for both oversteeling and diameter tolerance:

W/D No. | Maximum oversteeling No. | Diameter range (inch)
1.4 (i.e., 10 gauge) | 3.4 | 0.093 to 0.211.
2.1 (i.e., 8 gauge) | 4.1 | 0.161 to 0.231.
2.9 (i.e., 6 gauge) | 4.9 | 0.189 to 0.253.
4.0 (i.e., 4 gauge) | 6.0 | 0.223 to 0.280.

To the extent a roll or sheet of welded wire mesh falls within the permissible variations provided above, it is within this scope.

In addition to the tolerances permitted in ASTM specification A1064/A1064M, wire mesh within this scope includes combinations where:

1. A width and/or length combination varies by ± one grid size in any direction, i.e., ± 6 inches in length or width where the wire mesh's grid size is “6X6”; and/or

2. The center-to-center spacing between individual wires may vary by up to one quarter of an inch from the nominal grid size specified.

Length is measured from the ends of any wire and width is measured between the center-line of end longitudinal wires.

Additionally, although the subject wire mesh typically meets ASTM A1064/A1064M, the failure to include certifications, test reports or other documentation establishing that the product meets this specification does not remove the product from the scope. Wire mesh made to comparable foreign specifications (e.g., DIN, JIS, etc.) or proprietary specifications is included in the scope.

Excluded from the scope is wire mesh that is galvanized (i.e., coated with zinc) or coated with an epoxy coating. In order to be excluded as galvanized, the excluded welded wire mesh must have a zinc coating thickness meeting the requirements of ASTM specification A641/A641M. Epoxy coating is a mix of epoxy resin and hardener that can be applied to the surface of steel wire.

Merchandise subject to this investigation are classified under Harmonized Tariff Schedule of the United States (HTSUS) categories 7314.20.0000 and 7314.39.0000. While HTSUS subheadings are provided for convenience and customs purposes, the written description of the scope of this investigation is dispositive.

[FR Doc. 2021-16982 Filed 8-6-21; 8:45 am]

BILLING CODE 3510-DS-P